DEPARTMENT OF TRANSPORTATION

Coast Guard

33 CFR Part 117

[CGD13-02-004]

RIN 2115-AE47

Drawbridge Operations Regulations; Youngs Bay, OR

AGENCY: Coast Guard, DOT.

ACTION: Notice of temporary deviation from regulations.

SUMMARY: The Commander, Thirteenth Coast Guard District has issued a temporary deviation from the regulations governing the operation of the Old Youngs Bay Drawbridge across Youngs Bay, mile 2.4, at Astoria, Oregon, to close the bascule span from 8 a.m. on June 17 to 6 p.m. on July 10, 2002. This temporary closure is necessary to allow the Oregon Department of Transportation (ODOT) to refurbish the bridge deck and install a pedestrian walkway in a timely manner. This course of action is intended to minimize disruption to highway traffic without significantly impacting navigation of the waterway.

EFFECTIVE DATE: This deviation is effective from 8 a.m. on June 17 to 6 p.m. on July 10, 2002.

ADDRESSES: Unless otherwise noted, documents referred to in this notice are available for inspection and copying at Commander (oan), Thirteenth Coast Guard District, 915 Second Avenue, Seattle, Washington 98174-1067, room 3510 between 7:45 a.m. and 4:15 p.m., Monday through Friday, except Federal holidays. The Bridge Section of the Aids to Navigation and Waterways Management Branch maintains the docket for this temporary deviation.

FOR FURTHER INFORMATION CONTACT: Austin Pratt, Chief, Bridge Section, Aids to Navigation and Waterways Management Branch, Telephone (206) 220-7282.

SUPPLEMENTARY INFORMATION: The Old Youngs Bay Bridge across Youngs Bay, mile 2.4, at Astoria, Oregon, provides 13 feet of vertical clearance above mean high water and 20 feet above mean low water. Navigation on the waterway consists mostly of small open vessels. In recent years, requests for openings have consistently decreased. In 2001, the bridge was opened only four times for the passage of vessels. Three of those openings were during the winter months. This deviation from the regulations in 33 CFR 117.899 will allow ODOT to complete their project faster, with less disruption to highway traffic and with a minimal impact on navigation.

Dated: April 12, 2002.
R.W. Wicklund,
Captain, U.S. Coast Guard Commander, Thirteenth Coast Guard District, Acting.

[FR Doc. 02-10034 Filed 4-23-02; 8:45 am]

BILLING CODE 4910-15-P